DEPARTMENT OF AGRICULTURE

[DOC. NO. AMS-FGIS-18-0087]

Grain Export Registration Renewal Information

AGENCY: Agricultural Marketing Service, USDA.

ACTION: Notice.

SUMMARY: With this publication, the Agricultural Marketing Service (AMS) notifies persons about annual requirements for renewing the Application for Registration as required by the United States Grain Standards Act. All persons engaged in the business of buying grain for sale in foreign commerce and in the business of handling, weighing, or transporting grain for sale in foreign commerce in excess of 15,000 metric tons during the preceding or current calendar year must register annually. The realignment of offices within the U.S. Department of Agriculture authorized by the Secretary's Memorandum dated November 14, 2017, eliminates the Grain Inspection, Packers and Stockyards Administration (GIPSA) as a standalone agency. The grain inspection activities formerly part of GIPSA are now organized under AMS.

DATES: Export Registration is for the calendar year with 2019 registrations expiring on December 31, 2019.

ADDRESSES: Prospective registrants may submit an Application for Registration (FORM FGIS-945) online through FGISONLINE, Delegations, Designations, and Export Registration (DDR) and make payments through Pay.gov.

FOR FURTHER INFORMATION CONTACT: Requests for additional information should be directed to Candace A. Hildreth by telephone at 202-720-0203 or by email to FGISQACD@usda.gov with “2019 Application for Registration Renewal” as the subject line.

SUPPLEMENTARY INFORMATION: Instruction on how to submit an Application for Registration through DDR can be found at https://www.ams.usda.gov/services/fgis/ddr-export-registration-instructions.

Below are the applicable export registration regulatory provisions:

(1) 7 U.S.C. 87f-1 requires registration for all persons who are engaged in the business of buying grain for sale in foreign commerce and in the business of handling, weighing, or transporting grain for sale in foreign commerce in excess of 15,000 metric tons during the preceding or current calendar year.

(2) 7 CFR 800.30-39 defines foreign commerce grain business as persons who regularly engage in buying for sale, handling, weighing, or transporting grain totaling 15,000 metric tons or more during the preceding or current calendar year.

(3) 7 U.S.C. 87b(a)(11), Prohibited Acts, states that no person shall violate Section 87f-1, and if a person does violate Section 87f-1, Section 87c (a) states that any person who commits any offense prohibited by section 87b shall be guilty of a felony and shall, on conviction thereof, be subject to imprisonment for not more than five years, or a fine of not more than $20,000, or both imprisonment and fine.

Authority: 7 U.S.C. 87f-1.

Dated: February 15, 2019.
Bruce Summers,
Administrator, Agricultural Marketing Service.

[FR Doc. 2019-03076 Filed 2-21-19; 8:45 am]

BILLING CODE 3410-02-P